DEPARTMENT OF ENERGY

Energy Information Administration

Agency Information Collection Extension

AGENCY: U.S. Energy Information Administration (EIA), U.S. Department of Energy.

ACTION: Agency Information Collection Activities: Information Collection Extension; Notice and Request for Comments.

SUMMARY: EIA intends to revise and extend for three years, Form EIA-914 “Monthly Natural Gas Production Report,” with the Office of Management and Budget (OMB) pursuant to the Paperwork Reduction Act of 1995.

The revisions include increasing the number of states for which natural gas production will be collected. Gas production has increased dramatically in a few of the states outside the current EIA-914 states—for example, Pennsylvania and Colorado, both of which now out-produce two of the original EIA-914 areas, New Mexico and the Gulf of Mexico. Much of Colorado's new production is coalbed methane, while Pennsylvania's production is largely from the Marcellus shale formation. While production from unconventional sources has risen, production from more traditional formations has declined, particularly in the Gulf of Mexico and New Mexico, as the emphasis on oil production has increased. Pennsylvania and Colorado are representative of quite a few states that have demonstrated recent, large production increases. Thus, EIA considers it important to expand the number of states for which natural gas production data are collected.

Additionally, EIA also proposes to add the collection of crude oil and lease condensate production data at the state level. Oil production in the United States has grown recently and, in some cases, dramatically after a long, gradual decline. However, tight formations have fueled a recent reversal of this trend. As recently as April 2005 North Dakota was the tenth-largest producer of crude oil in the United States with less than 2 percent of U.S. production, but due to developments in the Bakken formation, is now the third-largest producer and accounted for slightly more than 12 percent of U.S. production in November 2013. Similarly, Texas production, which declined for many years, dramatically increased over the last two years as the projects in the Eagle Ford formation came on-line and ramped up. Increased production from tight formations have more than offset natural declines in the Gulf of Mexico, California, Alaska, and elsewhere so that exporting U.S. oil production has become a seriously discussed topic.

Further, EIA proposes to collect state-level crude oil and lease condensate production by API gravity category. We think that it's important to collect oil production by API gravity to inform the growing discussion about exporting crude oil. Proponents of exporting argue that there are large amounts of light crude oil presently produced in the United States, too much for U.S. refineries to process. Opponents of exporting argue that there is far less light crude oil being produced. Thus, collecting crude oil production by API gravity categories will inform the debate. The categories have not been determined yet. We expect that the final set of categories will include “unknown,” but we don't expect much production reported for this category.

Lastly, EIA plans to explore the possibility of collecting sulfur content of U.S. crude oil and lease condensate production (either at the state level, or national level). Categories of sulfur content will be determined once the availability of these data becomes known.

Comments are invited on the following issues: (a) Whether the proposed collection of information is necessary for the proper performance of the functions of the agency, including whether the information shall have practical utility; (b) whether the proposed collection of crude oil and lease condensate by API gravity category is consistent with industry record-keeping practices, as well as general comments on potential respondents' ability to provide such information, (c) whether the potential respondents are able to provide a measure of the sulfur content by state, (d) ways to enhance the quality, utility, and clarity of the information to be collected; and (e) ways to minimize the burden of the collection of information on respondents, including through the use of automated collection techniques or other forms of information technology.

DATES: Comments regarding this proposed information collection must be received on or before July 7, 2014. If you anticipate difficulty in submitting comments within that period, contact the person listed in ADDRESSES as soon as possible.

ADDRESSES: Send comments to Neal Davis. The mailing address is U.S. Department of Energy, U.S. Energy Information Administration, Attn: Neal Davis, EI-24, Forrestal Building, 1000 Independence Avenue SW., Washington, DC 20585. To ensure receipt of the comments by the due date, submission by email (neal.davis@eia.gov) is recommended. Alternatively, Neal Davis may be contacted by telephone at 202-586-6581 or by fax at 202-287-1938.

FOR FURTHER INFORMATION CONTACT: Requests for additional information or copies of the forms and instructions should be directed to Neal Davis at the contact information given above. Forms and instructions are also available on the Internet at: http://www.eia.gov/survey/notice/ngforms2015.cfm.

SUPPLEMENTARY INFORMATION: This information collection request contains:

(1) OMB No. 1905-0160;

(2) Information Collection Request Title: Monthly Natural Gas Production Report;

(3) Type of Request: Extension, with changes, of a currently approved collection

(4) Purpose: Form EIA-914, “Monthly Natural Gas Production Report,” collects monthly data on the production of natural gas in seven geographical areas (Texas (including State offshore), Louisiana (including State offshore), Oklahoma, New Mexico, Wyoming, Federal Gulf of Mexico offshore and Other States (defined as all remaining states, except Alaska, in which the operator produced natural gas during the report month)). The data appear in the “Monthly Natural Gas Gross Production Report” on EIA's Web site and in the EIA publications, Monthly Energy Review, Natural Gas Annual, and Natural Gas Monthly.

(4a) Proposed Changes to Information Collection:

The proposed changes include:

• Changing the title from “Monthly Natural Gas Production Report” to “Monthly Crude Oil, Lease Condensate, and Natural Gas Production Report.”

• In Part 2, EIA is proposing to remove several states from the “Other States” category—Alabama, Arkansas, California, Colorado, Kansas, Michigan, Mississippi, Montana, North Dakota, New York, Ohio, Pennsylvania, Utah, and West Virginia—and collect both gross withdrawals of natural gas and natural gas lease production volumes for a total of 21 states/areas including “Other States.” The “Other States” category will be retained, but only include the states Arizona, Federal California offshore, Florida, Illinois, Indiana, Kentucky, Maryland, Missouri, Nebraska, Nevada, Oregon, Tennessee, South Dakota, and Virginia. EIA will continue to collect Alaska natural gas production directly from the state.

• EIA is proposing to add Part 3 to Form EIA-914. Part 3 will collect total monthly crude oil and lease condensate production volumes for the 21 states/areas discussed above, including API gravity. Further, the production will be collected for several categories based on API gravity across each state. EIA plans to include a measure of the sulfur content (by state and API gravity) and is interested in assessing the availability of these data to respondents. The proposed categories are shown below.

API Gravity Ranges
≤20.0 | 20.1 to 30.0 | 30.1 to 35.0 | 35.1 to 40.0 | 40.1 to 45.0 | 45.1 to 50.0 | 50.1 to 55.0 | ≥55.0 | unknown

Note that it is expected that the “unknown” category will be rarely used by the respondent companies, typically under exceptional and temporary circumstances.

(5) Estimated Number of Survey Respondents: 600 respondents.

(6) Annual Estimated Number of Total Responses: The annual number of total responses is 7200. Annual Estimated Number of Burden Hours: The annual estimated burden is 21,600 hours.

(7) Annual Estimated Reporting and Recordkeeping Cost Burden: Additional costs to respondents are not anticipated beyond costs associated with response burden hours.

(8) Comments submitted in response to this notice will be summarized and/or included in the request for OMB approval of the form. They also will become a matter of public record.

Statutory Authority: Section 13(b) of the Federal Energy Administration Act of 1974, Pub. L. 93-275, codified at 15 U.S.C. 772(b).

Issued in Washington, DC on April 30, 2014.
Stephen J. Harvey,
Assistant Administrator for Energy Statistics, U.S. Energy Information Administration.

[FR Doc. 2014-10352 Filed 5-5-14; 8:45 am]

BILLING CODE 6450-01-P